DEPARTMENT OF ENERGY

[Case Number 2020-002; EERE-2020-BT-WAV-0009]

Energy Conservation Program: Notice of Petition for Waiver of Senneca Holdings From the Department of Energy Walk-In Cooler and Walk-In Freezer Test Procedure and Grant of Interim Waiver

AGENCY: Office of Energy Efficiency and Renewable Energy, Department of Energy.

ACTION: Notice of petition for waiver and grant of an interim waiver; request for comments.

SUMMARY: This notice announces receipt of and publishes a petition for waiver and interim waiver from Senneca Holdings, which seeks a waiver for specified basic models of walk-in cooler and walk-in freezer doors from the U.S. Department of Energy (“DOE”) test procedure used for determining the energy consumption of walk-in doors. This document also provides notice of an Interim Waiver Order requiring Senneca Holdings to test and rate the specified walk-in door basic models in accordance with the alternate test procedure set forth in the Interim Waiver Order. DOE solicits comments, data, and information concerning the petition and its suggested alternate test procedure so as to inform DOE's final decision on the waiver request.

DATES: The Interim Waiver Order is effective on September 28, 2020. Written comments and information will be accepted on or before October 28, 2020.

ADDRESSES: Interested persons are encouraged to submit comments using the Federal eRulemaking Portal at http://www.regulations.gov. Alternatively, interested persons may submit comments, identified by case number “2020-002”, and Docket number “EERE-2020-BT-WAV-0009,” by any of the following methods:

• Federal eRulemaking Portal: http://www.regulations.gov. Follow the instructions for submitting comments.

• Email: AS_Waiver_Requests@ee.doe.gov. Include Case No. 2020-002 in the subject line of the message.

• Postal Mail: Appliance and Equipment Standards Program, U.S. Department of Energy, Office of Energy Efficiency and Renewable Energy, Building Technologies Office, Mailstop EE-5B, Petition for Waiver Case No. 2020-002, 1000 Independence Avenue SW, Washington, DC 20585-0121. If possible, please submit all items on a compact disc (“CD”), in which case it is not necessary to include printed copies.

• Hand Delivery/Courier: Appliance and Equipment Standards Program, U.S. Department of Energy, Building Technologies Office, 950 L'Enfant Plaza SW, 6th floor, Washington, DC, 20024. Telephone: (202) 287-1445. If possible, please submit all items on a CD, in which case it is not necessary to include printed copies.

No telefacsimilies (“faxes”) will be accepted. For detailed instructions on submitting comments and additional information on this process, see the SUPPLEMENTARY INFORMATION section of this document.

Docket: The docket, which includes Federal Register notices, comments, and other supporting documents/materials, is available for review at http://www.regulations.gov. All documents in the docket are listed in the http://www.regulations.gov index. However, some documents listed in the index, such as those containing information that is exempt from public disclosure, may not be publicly available.

The docket web page can be found at http://www.regulations.gov/docket?D=EERE-2020-BT-WAV-0009. The docket web page contains instruction on how to access all documents, including public comments, in the docket. See the SUPPLEMENTARY INFORMATION section for information on how to submit comments through http://www.regulations.gov.

FOR FURTHER INFORMATION CONTACT: Ms. Lucy deButts, U.S. Department of Energy, Office of Energy Efficiency and Renewable Energy, Building Technologies Office, Mailstop EE-5B, 1000 Independence Avenue SW, Washington, DC 20585-0121. Email: AS_Waiver_Request@ee.doe.gov.

Mr. Michael Kido, U.S. Department of Energy, Office of the General Counsel, Mail Stop GC-33, Forrestal Building, 1000 Independence Avenue SW, Washington, DC 20585-0103. Telephone: (202) 586-8145. Email: Michael.Kido@hq.doe.gov.

SUPPLEMENTARY INFORMATION: The U.S. Department of Energy (“DOE”) is publishing a petition for waiver from Senneca Holdings (“Senneca”) in its entirety, pursuant to 10 CFR 431.401(b)(1)(iv).¹ DOE invites all interested parties to submit in writing by October 28, 2020, comments and information on all aspects of the petition, including the alternate test procedure. Pursuant to 10 CFR 431.401(d), any person submitting written comments to DOE must also send a copy of such comments to the petitioner. The contact information for the petitioner is Mike Nagle, Senneca Holdings. Telephone: (513) 603-2965. Email: mnagle@chasedoors.com.

¹ The petition did not identify any of the information contained therein as confidential business information.

Submitting comments via http://www.regulations.gov. The http://www.regulations.gov web page will require you to provide your name and contact information. Your contact information will be viewable to DOE Building Technologies staff only. Your contact information will not be publicly viewable except for your first and last names, organization name (if any), and submitter representative name (if any). If your comment is not processed properly because of technical difficulties, DOE will use this information to contact you. If DOE cannot read your comment due to technical difficulties and cannot contact you for clarification, DOE may not be able to consider your comment.

However, your contact information will be publicly viewable if you include it in the comment or in any documents attached to your comment. Any information that you do not want to be publicly viewable should not be included in your comment, nor in any document attached to your comment. If this instruction is followed, persons viewing comments will see only first and last names, organization names, correspondence containing comments, and any documents submitted with the comments.

Do not submit to http://www.regulations.gov information for which disclosure is restricted by statute, such as trade secrets and commercial or financial information (hereinafter referred to as Confidential Business Information (“CBI”)). Comments submitted through http://www.regulations.gov cannot be claimed as CBI. Comments received through the website will waive any CBI claims for the information submitted. For information on submitting CBI, see the Confidential Business Information section.

DOE processes submissions made through http://www.regulations.gov before posting. Normally, comments will be posted within a few days of being submitted. However, if large volumes of comments are being processed simultaneously, your comment may not be viewable for up to several weeks. Please keep the comment tracking number that http://www.regulations.gov provides after you have successfully uploaded your comment.

Submitting comments via email, hand delivery/courier, or postal mail. Comments and documents submitted via email, hand delivery/courier, or postal mail also will be posted to http://www.regulations.gov. If you do not want your personal contact information to be publicly viewable, do not include it in your comment or any accompanying documents. Instead, provide your contact information on a cover letter. Include your first and last names, email address, telephone number, and optional mailing address. The cover letter will not be publicly viewable as long as it does not include any comments.

Include contact information each time you submit comments, data, documents, and other information to DOE. If you submit via postal mail or hand delivery/courier, please provide all items on a CD, if feasible, in which case it is not necessary to submit printed copies. Faxes will not be accepted.

Comments, data, and other information submitted to DOE electronically should be provided in PDF (preferred), Microsoft Word or Excel, WordPerfect, or text (ASCII) file format. Provide documents that are not secured, written in English and free of any defects or viruses. Documents should not contain special characters or any form of encryption and, if possible, they should carry the electronic signature of the author.

Campaign form letters. Please submit campaign form letters by the originating organization in batches of between 50 to 500 form letters per PDF or as one form letter with a list of supporters' names compiled into one or more PDFs. This reduces comment processing and posting time.

Confidential Business Information. According to 10 CFR 1004.11, any person submitting information that he or she believes to be confidential and exempt by law from public disclosure should submit via email, postal mail, or hand delivery/courier two well-marked copies: one copy of the document marked confidential including all the information believed to be confidential, and one copy of the document marked “non-confidential” with the information believed to be confidential deleted. Submit these documents via email or on a CD, if feasible. DOE will make its own determination about the confidential status of the information and treat it according to its determination.

It is DOE's policy that all comments may be included in the public docket, without change and as received, including any personal information provided in the comments (except information deemed to be exempt from public disclosure).

Signing Authority

This document of the Department of Energy was signed on September 22, 2020, by Alexander N. Fitzsimmons, Deputy Assistant Secretary for Energy Efficiency, Energy Efficiency and Renewable Energy, pursuant to delegated authority from the Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on September 22, 2020.
Treena V. Garrett,
Federal Register Liaison Officer, U.S. Department of Energy.

Case Number 2020-002

Interim Waiver Order

I. Background and Authority

The Energy Policy and Conservation Act, as amended (“EPCA”),² authorizes the U.S. Department of Energy (“DOE”) to regulate the energy efficiency of a number of consumer products and certain industrial equipment. (42 U.S.C. 6291-6317) Title III, Part C ³ of EPCA, added by the National Energy Conservation Policy Act, Public Law 95-619, sec. 441 (Nov. 9, 1978), established the Energy Conservation Program for Certain Industrial Equipment, which sets forth a variety of provisions designed to improve the energy efficiency for certain types of industrial equipment. This equipment includes walk-in coolers and walk-in freezers, the subject of this Interim Waiver Order. (42 U.S.C. 6311(1)(G))

² All references to EPCA in this document refer to the statute as amended through America's Water Infrastructure Act of 2018, Public Law 115-270 (Oct. 23, 2018).

³ For editorial reasons, upon codification in the U.S. Code, Part C was redesignated as Part A-1.

The energy conservation program under EPCA consists essentially of four parts: (1) Testing, (2) labeling, (3) Federal energy conservation standards, and (4) certification and enforcement procedures. Relevant provisions of EPCA include definitions (42 U.S.C. 6311), energy conservation standards (42 U.S.C. 6313), test procedures (42 U.S.C. 6314), labeling provisions (42 U.S.C. 6315), and the authority to require information and reports from manufacturers (42 U.S.C. 6316).

The Federal testing requirements consist of test procedures that manufacturers of covered equipment must use as the basis for: (1) Certifying to DOE that their equipment complies with the applicable energy conservation standards adopted pursuant to EPCA (42 U.S.C. 6316(a); 42 U.S.C. 6295(s)), and (2) making representations about the efficiency of that equipment (42 U.S.C. 6314(d)). Similarly, DOE must use these test procedures to determine whether the equipment complies with relevant standards promulgated under EPCA. (42 U.S.C. 6316(a); 42 U.S.C. 6295(s))

Under 42 U.S.C. 6314, EPCA sets forth the criteria and procedures DOE is required to follow when prescribing or amending test procedures for covered equipment. EPCA requires that any test procedures prescribed or amended under this section must be reasonably designed to produce test results which reflect the energy efficiency, energy use or estimated annual operating cost of covered equipment during a representative average use cycle and requires that test procedures not be unduly burdensome to conduct. (42 U.S.C. 6314(a)(2)) The test procedure for measuring the energy consumption of walk-in cooler and walk-in freezer doors (“walk-in doors”) is contained in the Code of Federal Regulations (“CFR”) at 10 CFR part 431, subpart R, appendix A, “Uniform Test Method for the Measurement of Energy Consumption of the Components of Envelopes of Walk-In Coolers and Walk-In Freezers” (“Appendix A”).

Under 10 CFR 431.401, any interested person may submit a petition for waiver from DOE's test procedure requirements. DOE will grant a waiver from the test procedure requirements if DOE determines either that the basic model for which the waiver was requested contains a design characteristic that prevents testing of the basic model according to the prescribed test procedures, or that the prescribed test procedures evaluate the basic model in a manner so unrepresentative of its true energy consumption characteristics as to provide materially inaccurate comparative data. See 10 CFR 431.401(f)(2). A petitioner must include in its petition any alternate test procedures known to the petitioner to evaluate the performance of the equipment type in a manner representative of the energy consumption characteristics of the basic model. See 10 CFR 431.401(b)(1)(iii). DOE may grant the waiver subject to conditions, including adherence to alternate test procedures. See 10 CFR 431.401(f)(2).

As soon as practicable after the granting of any waiver, DOE will publish in the Federal Register a notice of proposed rulemaking to amend its regulations so as to eliminate any need for the continuation of such waiver. See 10 CFR 431.401(l). As soon thereafter as practicable, DOE will publish in the Federal Register a final rule to that effect. Id.

The waiver process also provides that DOE may grant an interim waiver if it appears likely that the underlying petition for waiver will be granted and/or if DOE determines that it would be desirable for public policy reasons to grant immediate relief pending a determination on the underlying petition for waiver. See 10 CFR 431.401(e)(2). Within one year of issuance of an interim waiver, DOE will either: (i) Publish in the Federal Register a determination on the petition for waiver; or (ii) publish in the Federal Register a new or amended test procedure that addresses the issues presented in the waiver. See 10 CFR 431.401(h)(1).

When DOE amends the test procedure to address the issues presented in a waiver, the waiver will automatically terminate on the date on which use of that test procedure is required to demonstrate compliance. See 10 CFR 431.401(h)(2).

II. Senneca Holdings' Petition for Waiver and Interim Waiver

By letter dated March 13, 2020, Senneca Holdings (“Senneca”) filed a petition for waiver and interim waiver from the test procedure for walk-in doors set forth at 10 CFR part 431, subpart R, appendix A (“Appendix A”). (Senneca, No. 1) ⁴ Subsequent to the March 13, 2020, submission and in response to questions from DOE, Senneca provided additional information on several occasions in the form of updated petitions for waiver and interim waiver. On June 12, 2020, Senneca provided additional information through a second submission. (Senneca, No. 2) Upon further requests for information from DOE, the most recent submission was filed on July 21, 2020. (Senneca, No. 3) ⁵

⁴ A notation in the form “Senneca, No. 1” identifies a written submission: (1) Made by Senneca Holdings; and (2) recorded in document number 1 that is filed in the docket of this petition for waiver (Docket No. EERE-2020-BT-WAV-0009) and available for review at http://www.regulations.gov.

⁵ Senneca's most recent petition for waiver and interim waiver can be found in the regulatory docket at https://www.regulations.gov/document?D=EERE-2020-BT-WAV-0009-0003. Due to the lengthy list of walk-in door basic models listed in Senneca's July 21, 2020 petition, DOE is making the complete list publicly available in the relevant regulatory docket. The specific basic models identified in Appendix I of the July 21, 2020 petition can be found in the docket at http://www.regulations.gov/docket?D=EERE-2020-BT-WAV-0009.

Section 4.5.2 of Appendix A, “Direct Energy Consumption of Electrical Components of Non-Display Doors,” establishes percent time off (“PTO”) values that account for the percent of time that an electrical device is assumed to be off for lighting, anti-sweat heaters, and any other electricity-consuming devices. The PTO value discounts the daily energy consumption of electrical components as calculated in section 4.5.2(b) of Appendix A. Senneca stated that the basic models identified in its petition use electric door motors for vertical and horizontal openings of the walk-in doors. The motors described in Senneca's waiver petition are “other electricity consuming devices . . . controlled by a preinstalled timer, control system or other auto-shut-off system” under Appendix A. 10 CFR part 431, subpart R, appendix A, section 4.5.2(a)(3). The DOE test procedure specifies using a PTO value of 25 percent for such devices, thereby reflecting an “on” time of 75 percent. Senneca stated that assuming the door motor operates for 75 percent of the day significantly overstates normal motor usage on their ColdGuard® and Eco-Cold powered door models, causing the prescribed test procedure to inaccurately evaluate the true energy consumption characteristics as to provide materially inaccurate comparative data. (Senneca, No. 3 at p. 1)

In its petition, Senneca provided performance data for two examples: the first for the ColdGuard® and Eco-Cold horizontally sliding door models and the second for the ColdGuard® and Eco-Cold vertical lift door models. (Senneca, No. 3 at pp. 2-3) The first example estimated that 120 cycles is considered to be a normal daily use cycle. The 120-cycle estimate is consistent with the value relied on by DOE in its evaluation of potential test procedure provisions to address door opening infiltration in the test procedure supplemental notice of proposed rulemaking published September 9, 2010. 75 FR 55068, 55085.⁶ This value is also consistent with the standard duty noted in the corresponding product literature. (Senneca, No. 3 at pp. 60-61) One cycle is defined as one opening and closing of a door with a door opening of 120 inches operating at a speed of 12 inches per second (“IPS”) in both directions. (Senneca, No. 3 at p. 2) For the basic model Senneca presented in this example, the normal daily use cycle estimate and cycle time estimate result in a total motor run time of 40 minutes (0.67 hours) per day, leaving the door motor out of operation for 23.33 hours per day, or 97.2 PTO. Id.

⁶ DOE did not adopt test procedure provisions addressing door opening infiltration, having determined that a typical door manufacturer has very few direct means for reducing the door infiltration on its own. 73 FR 21580, 21595 (Apr. 15, 2011).

In the second example, Senneca estimated that 20 cycles are considered to be a normal daily use cycle for the vertical lift electric door motors identified in the petition for waiver. (Senneca, No. 3 at pp. 2-3) This value is also consistent with the standard duty noted in the corresponding product literature. (Senneca, No. 3 at p. 61) For this example, one cycle is defined as one opening and closing of a door with a door opening of 120 inches operating at a minimum speed of 8 IPS in both directions. (Senneca, No. 3 at p. 2) For the basic model Senneca presented in this example, the normal daily use cycle estimate and cycle time estimate result in a total run time of 10 minutes (0.17 hours) per day, leaving the door motor out of operation for 23.83 hours per day, or 99.3 PTO. Based on these two calculations, Senneca petitioned DOE to apply a PTO value of 97 percent for basic models of their ColdGuard® and Eco-Cold walk-in doors that use electric door motors. (Senneca, No. 3 at p. 3)

Senneca also requested an interim waiver from the existing DOE test procedure. DOE will grant an interim waiver if it appears likely that the petition for waiver will be granted, and/or if DOE determines that it would be desirable for public policy reasons to grant immediate relief pending a determination of the petition for waiver. See 10 CFR 431.401(e)(2).

Absent an interim waiver, Senneca asserts that the walk-in doors with electric door motors identified in its petition for a waiver cannot be tested and rated for energy consumption on a basis representative of their actual energy consumption characteristics.

III. Requested Alternate Test Procedure

EPCA requires that manufacturers use DOE test procedures when making representations about the energy consumption and energy consumption costs of covered equipment. (42 U.S.C. 6314(d)) Consistency is important when making representations about the energy efficiency of equipment, including when demonstrating compliance with applicable DOE energy conservation standards. Pursuant to its regulations at 10 CFR 430.401, and after consideration of public comments on the petition, DOE may establish in a subsequent Decision and Order an alternate test procedure for the basic models addressed by the Interim Waiver Order.

Senneca seeks to use an alternate test procedure to test and rate specific walk-in door basic models. Instead of using the PTO value of 25 percent established in section 4.5.2(a)(3) of Appendix A for electricity-consuming devices other than lighting and anti-sweat heaters, Senneca requests using the minimum calculated PTO value in their petition, 97 percent, for all of their specified ColdGuard® and Eco-Cold models.

IV. Interim Waiver Order

DOE has reviewed Senneca's application for an interim waiver, the alternate test procedure requested by Senneca, and the data provided by Senneca in its July 21, 2020, waiver request, along with material on its website. As part of DOE's review, DOE considered the potential range of parameters affecting door motor operating time, including door opening width or height, speed of door closing/opening, and cycles per day.

In evaluating the most energy consumptive scenarios, DOE selected the maximum door opening width for horizontally sliding doors (144 inches) and height for vertical-lift doors (192 inches) identified by Senneca in its product literature. (Senneca, No. 3 at pp. 60-61) Then, DOE selected the speed of door closing and opening, and cycles per day based on the motor used. For Senneca's horizontally sliding doors, i.e., the model numbers beginning with “SSE-EHD-D” or “BPE-EHD-D”, the equipment literature states that the 1900-RLS Operator or 1900-RLS-M Operator motor may be used. Id. To estimate the most energy consumptive scenario, DOE selected the slower operating speed of the two motor options: 12 inches per second using the 1900-RLS-M Operator. Product literature for both motors state a standard duty of 120 cycles of opening and closing per day. Id. Using these assumptions, DOE calculated the door motor total off time per day to be 23.2 hours, or 96.7 PTO, for the horizontally sliding door models specified in Senneca's petition.

For Senneca's vertical-lift doors, i.e., the model numbers beginning with “VLE”, the product literature states that the VLE Operator motor would be used. (Senneca, No. 3 at p. 61) The VLE Operator runs at a speed of 8 inches per second and has a standard duty of 20 cycles of opening and closing per day. Id. Using these assumptions, DOE calculated the door motor total off time per day to be 23.73 hours, or 98.9 PTO. This review indicates that the PTO value of 97 percent is representative of the most energy consumptive scenario and likely ranges of these parameters.

Based on this review, Senneca's suggested alternate test procedure that applies a PTO value of 97 percent appears to allow for the accurate measurement of the of energy consumption of the specified basic models, while alleviating the testing issues associated with Senneca's implementation of walk-in door testing for these basic models. This required use of 97 percent is consistent with waivers previously granted in response to petitions that presented the same issue as in Senneca's petition.⁷ Consequently, DOE has determined that Senneca's petition for waiver will likely be granted. Furthermore, DOE has determined that it is desirable for public policy reasons to grant Senneca immediate relief pending a determination of the petition for waiver.

⁷ See Notice of Decision and Order granting a waiver to Jamison Door (Case No. 2017-009; 83 FR 53460 (Oct. 23, 2018); Notice of Decision and Order granting a waiver to HH Technologies (Case No. 2018-001; 83 FR 53457 (Oct. 23, 2018)); and Extension of Waiver to HH Technologies (Case No. 2018-011; 84 FR 1434 (Feb. 4, 2019)).

For the reasons stated, it is ordered that:

(1) Senneca must test and rate the basic models listed in Appendix I of its July 21, 2020, petition as provided in Docket Number EERE-2020-BT-WAV-0009-0003 ⁸ with the alternate test procedure set forth in paragraph (2).

⁸ Available at http://www.regulations.gov/docket?D=EERE-2020-BT-WAV-0009-0003.

(2) The alternate test procedure for the Senneca basic models identified in paragraph (1) of this Interim Waiver Order is the test procedure for walk-in doors prescribed by DOE at 10 CFR part 431, subpart R, appendix A, except that the percent time off (“PTO”) value specified in section 4.5.2 “Direct Energy Consumption of Electrical Components of Non-Display Doors” shall be 97 percent for door motors. All other requirements of 10 CFR part 431, subpart R, appendix A and DOE's regulations remain applicable.

(3) Representations. Senneca may not make representations about the energy use of a basic model listed in paragraph (1) for compliance, marketing, or other purposes unless that the basic model has been tested in accordance with the provisions set forth above and such representations fairly disclose the results of such testing.

(4) This Interim Waiver Order shall remain in effect according to the provisions of 10 CFR 431.401.

(5) This Interim Waiver Order is issued on the condition that the door performance characteristics, statements, representations, test data, and documentary materials provided by Senneca are valid. If Senneca makes any modifications to the controls or configurations of a basic model subject to this Interim Waiver Order, such modifications will render the waiver invalid with respect to that basic model, and Senneca will either be required to use the current Federal test method or submit a new application for a test procedure waiver. DOE may rescind or modify this waiver at any time if it determines the factual basis underlying the petition for the Interim Waiver Order is incorrect, or the results from the alternate test procedure are unrepresentative of the basic model's true energy consumption characteristics. 10 CFR 431.401(k)(1). Likewise, Senneca may request that DOE rescind or modify the Interim Waiver Order if Senneca discovers an error in the information provided to DOE as part of its petition, determines that the interim waiver is no longer needed, or for other appropriate reasons. 10 CFR 431.401(k)(2).

(6) Issuance of this Interim Waiver Order does not release Senneca from the certification requirements set forth at 10 CFR part 429.

DOE makes decisions on waivers and interim waivers for only those basic models specifically set out in the petition, not future models that may be manufactured by the petitioner. Senneca may submit a new or amended petition for waiver and request for grant of interim waiver, as appropriate, for additional basic models of walk-in doors. Alternatively, if appropriate, Senneca may request that DOE extend the scope of a waiver or an interim waiver to include additional basic models employing the same technology as the basic model(s) set forth in the original petition consistent with 10 CFR 431.401(g).

Signed in Washington, DC, on September 22, 2020

Alexander N. Fitzsimmons,

Deputy Assistant Secretary, for Energy Efficiency, Energy Efficiency and Renewable Energy.

Petition for Senneca Holdings for Waiver of Test Procedure for Walk-In Cooler and Freezer Doors

Senneca Holdings (“Senneca”) is petitioning for a Waiver and submitting an Application for Interim Waiver from the current Department of Energy (“DOE”) code for walk-in freezer doors per Title 10 Chapter II Subpart R, General Provisions, Section 431.401.

Senneca operates in the specialty door industry and is the parent company to a diversified group of commercial and industrial door brands. Chase Doors, a Senneca Company—began operating in 1932 as an insulated walk-in cooler and specialty refrigeration equipment manufacturer. Today, Chase Doors manufactures made-to-order specialty door systems, offering a broad spectrum of specialty doors systems including a complete line of cold storage doors and double-acting swing doors (impact traffic doors).

Certain doors produced under two of Chase Doors' brands, ColdGuard® and Eco-Cold, are the subject of this petition. From walk-in coolers to industrial warehouse applications, ColdGuard® and Eco-Cold offer cooler and freezer doors to meet the demanding requirements of the cold storage industry.

I. Basic Models for Which Senneca Requests a Waiver

Senneca requests a waiver and interim waiver for the ColdGuard® and Eco Cold basic models set forth in Appendix I.

Please note that Appendix I provides a range of potential height and width measurements for individual models and uses asterisks, or wildcards, to represent height and width measurements in the individual model numbers. Use of the asterisks is necessary as Senneca has not yet determined every precise height and width combination that we will include in a forthcoming certification submission. In order to ensure DOE has enough information to assess what sized doors are covered by the waiver request, Senneca has identified the final surface area for each model listed in Appendix I. Thus, while the exact height and width of individual models will be reflected in Senneca's certifications, Senneca includes a height and width range and asterisks in Appendix I of its waiver petition.

II. Why Senneca Requests a Waiver

Currently, per the standard in section 4.5.2—titled “Direct Energy Consumption of Electrical Components of Non-Display Doors”—of Appendix A to Subpart R of Part 431, the rating of the door for insulating values and motor power use a percent time off (“PTO”) of 25 percent. This would require the door motor to operate for 75 percent of the day which significantly overstates normal motor usage on our basic brands of powered door models, causing the prescribed test procedures' evaluation of the models to be “so unrepresentative of [their] true energy . . . consumption characteristics as to provide materially inaccurate comparative data.” 10 CFR §431.401(a)(1).

The first example, listed below, is for the ColdGuard® and Eco-Cold horizontally sliding door models that normally operate at a total speed of 12 inches per second (“IPS”) or greater. The second example is for the ColdGuard® and Eco-Cold vertical lift door models that normally operate at a total speed of 8 IPS or greater. Documentation and support for the numbers used below are included in Appendix II. While the supporting materials in Appendix II refer to and cover a broader group of doors than the ColdGuard® and Eco-Cold basic models listed in Appendix I, the materials are accurate in their description of the components of the ColdGuard® and Eco-Cold basic models listed in Appendix I. That is, the supporting materials provided cover all ColdGuard® and Eco-Cold basic models listed in Appendix I.

A. First Example: ColdGuard® and Eco-Cold Horizontally Sliding Door Models

Listed Model Groups:

• SSE-EHD-D—Single Slide Electric Extra Heavy Duty

• BPE-EHD-D—Bi-Parting Electric Extra Heavy Duty

The DOE has stated that door operation of 120 cycles (operations) per day is normal. We use this cycle number as our norm when estimating customer usage of the sliding model doors listed above and will use this as the base for our first PTO example. One cycle is defined as one opening and closing cycle of a door with a door opening of 120 inches operating at a constant speed of 12 IPS in both directions.

The time during which the door is in an open or stopped position adds nothing to the calculation as the motor is not powered during this time.

Door Cycles/Day = 120

Door Cycle time = 20 Sec.

Total run time/Day (min.) = 40

Total run time/Day (hr.) = 0.67

Total not running time/Day (hr.) = 23.33

PTO calculated = .972

B. Second Example: ColdGuard® and Eco-Cold Vertical Lift Door Models

Listed Model Group:

• VLE-D—Vertical Lift Electric

In our second PTO example, the ColdGuard® and Eco-Cold Vertical Lift door models are operated at a maximum of 20 cycles (operations) per day as specified by Chase Doors. One cycle is defined as one opening and closing cycle of a door with a door opening of 120 inches operating at a constant speed of 8 IPS in both directions.

The time during which the door is in an open or stopped position adds nothing to the calculation as the motor is not powered during this time.

Door Cycles/Day = 20

Door Cycle time = 30 Sec.

Total run time/Day (min.) = 10

Total run time/Day (hr.) = 0.17

Total not running time/Day (hr.) = 23.83

PTO calculated = .993

Based on the PTO examples above, Senneca requests a waiver to use a PTO value of 97 percent as the minimum value ¹ for the ColdGuard® and Eco-Cold models set forth in Appendix I.² The calculation for all door models demonstrates a much lower motor run time than the standards allow which results in much larger energy savings. Senneca is requesting this waiver so that we can continue to sell these power-operated doors which are more convenient and efficient for our customers. These doors represent a large part of the WICF market, and our business would be severely impacted if we could no longer make these doors available for our customers.

¹ In using a PTO of 97 as the “minimum value,” Senneca means that it is requesting its waiver using the lower of the PTO values from the two examples' calculations—that is, 97 instead of 99—so that the resulting energy consumption represents the highest potential energy consumption.

² This waiver request is limited to the ColdGuard® and Eco-Cold basic models listed in Appendix I. Although additional basic models and individual models may exist within a model group, those basic models and individual models are not power- operated and thus are not included in the request. Moreover, the ColdGuard® and Eco-Cold basic models and individual models listed in Appendix I reflect new modeling nomenclature, updated to more closely align with DOE expectations.

III. Interim Waiver Request

Senneca is also requesting an interim waiver for the identified ColdGuard® and Eco-Cold basic models and individual models in Appendix I. Without the interim waiver, Senneca would be forced to withhold shipment of listed models subject to the current energy conservation standards even though other manufacturers have been granted a waiver that allows them to continue shipment of similar products. Obtaining a waiver is a critical step in eliminating any further economic hardship, and it is imperative that the interim waiver be granted to avoid placing Senneca at a competitive disadvantage.

IV. Other Manufacturers

Manufacturers known to us of other basic models that are distributed in the United States and that incorporate designs with similar characteristics that are subject to this petition include: JAMISON DOORS, HH TECHNOLOGIES, and FRANK DOORS.

Sincerely,

/s/

Mike Nagle,

Electrical Engineer,

Senneca Holdings,

P: 513-603-2965, C: 513-378-2120,

mnagle@chasedoors.com.

Appendix I

For a list of the specific basic models for which the test procedure applies see docket at http://www.regulations.gov/docket?D=EERE-2020-BT-WAV-0009-0003.

Appendix II

For product literature used to calculate percent time off see docket at http://www.regulations.gov/docket?D=EERE-2020-BT-WAV-0009-0003.

[FR Doc. 2020-21286 Filed 9-25-20; 8:45 am]

BILLING CODE 6450-01-P